PATENT AND TRADEMARK OFFICE

Submission of Official Tribal Insignia of Federally- and State-Recognized Native American Tribes for Inclusion in a United States Patent and Trademark Office Database

ACTION: New information collection; comment request.

SUMMARY: The United States Patent and Trademark Office (USPTO), as part of its continuing effort to reduce paperwork and respondent burden, invites the general public and other Federal agencies to comment on the new proposed information collection, as required by the Paperwork Reduction Act of 1995, Public Law 104-13 (44 U.S.C. 3506(c)(2)(A)).

DATES: Written comments must be submitted on or before June 15, 2001.

ADDRESSES: Direct all written comments to Susan K. Brown, Records Officer, (703) 308-7400, Data Administration Division, Office of Data Management, United States Patent and Trademark Office, Crystal Park 3, 3rd Floor, Suite 310, Washington, D.C. 20231 or via the Internet at susan.brown@uspto.gov.

FOR FURTHER INFORMATION CONTACT: Requests for additional information should be directed to Ari Leifman, by mail, United States Patent and Trademark Office, 2900 Crystal Drive, Room 10B10, Arlington, Va. 22202, by phone at (703) 308-8900, or by e-mail at ari.leifman@uspto.gov.

SUPPLEMENTARY INFORMATION:

I. Abstract

Title III of Public Law 105-330 required the United States Patent and Trademark Office (USPTO) to conduct a study as to how the official insignia of Native American Tribes could be better protected under Trademark law. A study was conducted, and a report was presented to the Chairman of the Committee on the Judiciary of the Senate and to the Chairman of the Committee on the Judiciary of the House of Representatives on November 30, 1999.

One of the recommendations set forth in the report was that the USPTO create and maintain an accurate and comprehensive database of the official insignias of Native American tribes.

Accordingly, the USPTO will create such a database, and will accept requests from any federally- or state-recognized Native American tribe to include that tribe's official insignia in the database.

Requests from federally-recognized tribes will be in writing, and will be accompanied by (1) a depiction of the insignia, including the name of the tribe and an address for correspondence; (2) a copy of the tribal resolution adopting the insignia in question as the official insignia of the tribe; and (3) a statement, signed by an official with authority to bind the tribe, confirming that the insignia included with the request is identical to the official insignia adopted by tribal resolution.

Requests from state-recognized tribes will likewise be in writing, and will likewise be accompanied by each of the three items to be submitted by federally-recognized tribes. Additionally, requests from state-recognized tribes will also be accompanied by either a document issued by a state official that demonstrates that the state has determined that the entity is a Native American tribe, or a citation to a state statute that designates the entity as a Native American tribe.

II. Method of Collection

By mail to a United States Postal Service mailbox or by facsimile to (703) 872-9192.

III. Data

OMB Number: 0651-00XX.

Form Number(s): There are no forms associated with this information collection.

Type of Review: New information collection.

Affected Public: Tribal governments and the Federal Government.

Estimated Number of Respondents: 400 responses per year. The USPTO estimates that 200 responses will be received yearly from federally-recognized Native American tribes and 200 responses received yearly from state-recognized Native American tribes.

Estimated Time Per Response: The USPTO estimates that federally-recognized Native American tribes will require 10 minutes (.17 hours) to supply the information needed to record an official insignia and that state-recognized Native American tribes will require 12 minutes (.20 hours) to supply the information needed to record an official insignia.

Estimated Total Annual Respondent Burden Hours: 74 hours per year.

Estimated Total Annual Respondent Cost Burden: Using the para-professional hourly rate of $30.00 per hour for members of the Native American tribes and tribal governments, the USPTO estimates that salary costs associated with the respondents will be $2,220.00 per year.

Item | Estimated time for response (minutes) | Estimated annual burden hours | Estimated annual responses
Request to Record an Official Native American Tribe Insignia of a Federally-Recognized Tribe | 10 | 34 | 200
Request to Record an Insignia of a State-Recognized Native American Tribe | 12 | 40 | 200
Total |  | 74 | 400

Estimated Total Annual Nonhour Respondent Cost Burden: $0. There are no annual nonhour respondent costs (capital start-up, maintenance, filing fees) associated with this collection.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information

Comments submitted in response to this notice will be summarized or included in the request for OMB approval of this information collection. These comments will be made public.

Dated: April 9, 2001.
Susan K. Brown,
Records Officer, Data Administration Division, Office of Data Management.

[FR Doc. 01-9286 Filed 4-13-01; 8:45 am]

BILLING CODE 3510-16-P